DEPARTMENT OF STATE

[Public Notice 4241]

Bureau of Educational and Cultural Affairs Request for Grant Proposals: Summer Institute for English Language Administrators From Francophone and Lusophone Sub-Saharan Africa

Summary:The African Programs Branch, Office of Academic Exchange Programs of the Bureau of Educational and Cultural Affairs (ECA) announces an open competition for an assistance award. Accredited, post-secondary educational institutions meeting the provisions described in Internal Revenue Code section 26 U.S.C. 501(c)(3) may submit proposals to develop a Summer Institute for English-as-a-Foreign Language (EFL) Administrators from Francophone and Lusophone Sub-Saharan Africa. The Summer Institute will provide a six-week program in education management for 16 secondary school EFL supervisors/inspectors and school administrators with strong EFL backgrounds selected from French and Portuguese-speaking countries of Sub-Saharan Africa.

Program Information

Overview

The Bureau asks for detailed proposals from U.S. institutions of higher education, which have an acknowledged reputation in the fields of education administration and EFL. Special expertise in handling cross-cultural programs and experience with educational systems in Sub-Saharan Africa and African education administrators are highly desired. Note: Applicant organizations should demonstrate a proven record (at least four years) of experience in international exchange.

The general objective of the Institute is to support and encourage the upgrading of English language programs in secondary schools in French and Portuguese-speaking African countries through enhancing participants' management and organizational skills and broadening their understanding of U.S. institutions and culture.

Guidelines

Pending availability of FY 2003 funds, the Institute should begin on or about June 1, 2003, and end before September 30, 2003. Programs must comply with J-1 visa regulations. Please refer to Solicitation Package for further information.

The proposal should be designed to support the following specific activities:

(a) A five-week academic program with emphasis on developing the capacities of 16 Sub-Saharan African supervisors/inspectors/administrators to strengthen EFL programs through more effective management of teachers, students, and resources. Detailed academic objectives are set forth in the Solicitation Package.

(b) Cultural activities facilitating interaction among the African participants, American students, faculty, and administrators and the local community to promote mutual understanding between the people of the United States and the people of African countries, planned within the five-week academic program.

(c) One week of escorted, cultural and educational site visits in Washington, DC, complementing and reinforcing the academic program. Site visits include a meeting at the Bureau of Educational and Cultural Affairs.

(d) Follow-on communication among participants and the U.S. institution to continue exchanges of ideas developed during the Institute.

(e) Assistance to participants to select, purchase and ship professional materials to use in follow-on activities and training projects in their home countries.

Participants will be selected by the Bureau, based on nominations from U.S. Embassies. Minimum qualifications for all participants will be (1) adequate proficiency in English to be able to participate in and benefit from the program, (2) the equivalent of BA/BS degrees from their national education systems, and (3) job responsibilities related to school/program administration. Participants will enter the United States on J-visas, using DS-2019 forms issued by ECA.

The U.S. institution should plan to conduct an initial needs assessment of participants and should be prepared to adjust program emphasis as necessary to respond to participants' concerns for EFL education. Specific areas to address in the five-week academic program follow:

1. Managing the teaching staff: Evaluating, supporting, motivating teachers; designing and conducting in-service training programs; promoting professional ethics; building staff cohesiveness.

2. Student development: Setting behavioral/learning standards, evaluating student progress, creating a school culture conducive to learning, fostering parental involvement.

3. Managing resources: conducting resource inventories, allocating/tracking resources, budgeting, optimizing limited resources, developing access to outside resources.

4. Education Technology: introduction and/or enrichment of computer-based word processing and appropriate software for participants who lack these skills, introduction to computer networks for EFL professionals, introduction/enrichment of knowledge of e-mail and the Internet as pedagogic and research tools.

Few participants will have visited the United States previously. In view of this, an initial orientation to the host institution community and an introduction to U.S. society and system of education should be considered an integral part of the Institute.

Management of the academic program, the week in Washington, DC and on-site arrangements will be the responsibility of the Institute grantee. The host institution is responsible for arrangements for lodging, food, maintenance and local travel for participants while at the host institution and in Washington. The Bureau will arrange participants' international travel. The Bureau will provide the host institution with participants' curricula vitae and travel itineraries and will be available to offer guidance throughout the Institute.

Budget Guidelines

Applicants must submit a comprehensive budget for the entire program. There must be a summary budget as well as breakdowns reflecting both administrative and program budgets. Applicants may provide separate sub-budgets for each program component, phase, location, or activity to provide clarification. The cost to the Bureau for the Summer Institute should not exceed $125,000 based on 16 participants. Subject to availability of funds, one grant will be awarded to conduct the 2003 Summer Institute.

Grants awarded to eligible organizations with less than four years of experience in conducting international exchange programs will be limited to $60,000.

Allowable costs for the program include the following:

(1) Instructional costs (for example: instructors' salaries, honoraria for outside speakers, educational course materials);

(2) Lodging, meals, and incidentals for participants;

(3) Expenses associated with cultural activities planned for the group of participants (for example: tickets, transportation);

(4) Administrative costs as necessary.

Proposals should maximize cost-sharing through private sector support as well as institutional direct funding contributions.

Please refer to the Solicitation Package for complete budget guidelines and formatting instructions.

Announcement Title and Number: All correspondence with the Bureau concerning this RFGP should reference the above title and number ECA/A/E/AF-03-01.

For Further Information Contact: Office of Academic Exchanges, African Programs Branch, ECA/A/E/AF, Room 232, U.S. Department of State, 301 4th Street, SW., Washington, DC 20547, Telephone: (202) 260-2754, fax: (202) 619-6137 or e-mail: wbell@pd.state.gov to request a Solicitation Package. The Solicitation Package contains detailed award criteria, required application forms, specific budget instructions, and standard guidelines for proposal preparation. Please specify Bureau Program Officer Wylita Bell on all other inquiries and correspondence.

Please read the complete Federal Register announcement before sending inquiries or submitting proposals. Once the RFGP deadline has passed, Bureau staff may not discuss this competition with applicants until the proposal review process has been completed.

To Download a Solicitation Package via Internet

The entire Solicitation Package may be downloaded from the Bureau's website at http://exchanges.state.gov/education/RFGPs. Please read all information before downloading.

Deadline for Proposals

All proposal copies must be received at the Bureau of Educational and Cultural Affairs by 5 p.m. Washington, DC time on Friday, February 14, 2003. Faxed documents will not be accepted at any time. Documents postmarked the due date but received on a later date will not be accepted. Each applicant must ensure that the proposals are received by the above deadline.

Applicants must follow all instructions in the Solicitation Package. The original and seven copies of the application should be sent to: U.S. Department of State, SA-44, Bureau of Educational and Cultural Affairs, Ref.: ECA/A/E/AF-03-01, Program Management, ECA/EX/PM, Room 534, 301 4th Street, SW., Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 6Z, including the oversight of Responsible Officers and Alternate Responsible Officers, screening and selection of program participants, provision of pre-arrival information and orientation to participants, monitoring of participants, proper maintenance and security of forms, record-keeping, reporting and other requirements. ECA will be responsible for issuing DS-2019 forms to participants in this program.

A copy of the complete regulations governing the administration of Exchange Visitor (J) programs is available at http://exchanges.state.gov or from: United States Department of State, Office of Exchange Coordination and Designation, ECA/EC/ECD-SA-44, Room 734, 301 4th Street, SW., Washington, DC 20547. Telephone: (202) 401-9810. FAX: (202) 401-9809.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission. Proposals should exhibit quality, rigor and appropriateness of proposed syllabus to the academic objectives the Summer Institute. Proposals should demonstrate effective use of community and regional resources to enhance the cultural and educational experiences of participants. Teaching objectives should be reasonable, feasible, and flexible.

2. Program planning: Detailed calendar and relevant work plan should demonstrate substantive undertakings and logistical capacity. Calendar and plan should adhere to the program overview and guidelines described above. Proposals should clearly demonstrate how the institution will meet the program's objectives and plan.

3. Multiplier effect/impact: Proposed program should contribute to long-term, mutual understanding and sharing of information about Africa among Americans, as well as to the understanding of and knowledge of the U.S. among the African participants.

4. Support of Diversity: Proposals should demonstrate the recipient's commitment to promoting the awareness and understanding of diversity. Program administrators should strive for diversity among Institute staff, university students, and the host community who interact with participants.

5. Institutional Capacity: Proposed personnel and institutional resources should be adequate and appropriate to achieve a substantive academic program and effective cross-cultural communication with African participants. Proposal should show evidence of strong on-site administrative capabilities with specific discussion of how logistical arrangements will be undertaken. Proposals should demonstrate institutional experience in and knowledge of Africa (Francophone and Lusophone) as well as expertise in education in developing countries.

6. Experience: Proposals should demonstrate an institutional record of successful implementation of exchange programs, including responsible fiscal management and full compliance with all reporting requirements for past Bureau grants as determined by Bureau Grant Staff. The Bureau will consider the past performance of prior recipients and the demonstrated potential of new applicants.

7. Project Evaluation: Proposals should include a plan to evaluate the Summer Institute's success, both as the activities unfold and at the end of the program. A draft survey questionnaire or other technique plus description of a methodology to use to link outcomes to original project objectives is recommended. Successful applicants will be expected to submit intermediate reports after each project component is concluded or quarterly, whichever is less frequent.

8. Follow-on Activities: Proposals should provide a plan for continued follow-on activity (without Bureau support) ensuring that Bureau supported programs are not isolated events.

9. Cost-effectiveness: The overhead and administrative components of the proposal, including salaries and honoraria, should be kept as low as possible. All other items should be necessary and appropriate.

10. Cost-sharing: Proposals should maximize cost-sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program cited above is provided through the Fulbright-Hays Act.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: December 18, 2002.
Patricia S. Harrison,
Assistant Secretary for Educational and Cultural Affairs, Department of State.

[FR Doc. 02-32599 Filed 12-24-02; 8:45 am]

BILLING CODE 4710-05-P